DEPARTMENT OF HOMELAND SECURITY

Federal Emergency Management Agency

[Docket ID FEMA-2019-0002; Internal Agency Docket No. FEMA-B-1904]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alabama:
Madison | City of Madison (19-04-0103P). | The Honorable Paul Finley, Mayor, City of Madison, 100 Hughes Road, Madison, AL 35758. | Engineering Department, 100 Hughes Road, Madison, AL 35758. | https://msc.fema.gov/portal/advanceSearch. | Apr. 11, 2019 | 010308
Montgomery | City of Montgomery (17-04-6774P). | The Honorable Todd Strange, Mayor, City of Montgomery, 103 North Perry Street, Montgomery, AL 36104. | Engineering Department, 25 Washington Avenue, Montgomery, AL 36104. | https://msc.fema.gov/portal/advanceSearch. | Apr. 25, 2019 | 010174
Shelby | City of Helena (18-04-5164P). | The Honorable Mark R. Hall, Mayor, City of Helena, 816 Highway 52 East, Helena, AL 35080. | City Hall, 816 Highway 52 East, Helena, AL 35080. | https://msc.fema.gov/portal/advanceSearch. | Apr. 18, 2019 | 010193
Shelby | City of Pelham (18-04-5164P). | The Honorable Gary W. Waters, Mayor, City of Pelham, 3162 Pelham Parkway, Pelham, AL 35124. | City Hall, 3162 Pelham Parkway, Pelham, AL 35124. | https://msc.fema.gov/portal/advanceSearch. | Apr. 18, 2019 | 010294
Colorado:
Arapahoe | City of Aurora (18-08-0814P). | The Honorable Bob LeGare, Mayor, City of Aurora, 15151 East Alameda Parkway, Aurora, CO 80012. | Public Works Department, 15151 East Alameda Parkway, Aurora, CO 80012. | https://msc.fema.gov/portal/advanceSearch. | Apr. 19, 2019 | 080002
Broomfield | City and County of Broomfield (18-08-0957P). | The Honorable Randy Ahrens, Mayor, City and County of Broomfield, 1 Descombes Drive, Broomfield, CO 80020. | Engineering Department, 1 Descombes Drive, Broomfield, CO 80020. | https://msc.fema.gov/portal/advanceSearch. | May 10, 2019 | 085073
El Paso | Unincorporated areas El Paso County (18-08-0914P). | The Honorable Darryl Glenn, President, El Paso County Board of Commissioners, 200 South Cascade Avenue, Suite 100, Colorado Springs, CO 80903. | El Paso County Building Department, 2880 International Circle, Colorado Springs, CO 80910. | https://msc.fema.gov/portal/advanceSearch. | Apr. 18, 2019 | 080059
El Paso | Unincorporated areas El Paso County (18-08-1059P). | The Honorable Darryl Glenn, President, El Paso County Board of Commissioners, 200 South Cascade Avenue, Suite 100, Colorado Springs, CO 80903. | El Paso County Building Department, 2880 International Circle, Colorado Springs, CO 80910. | https://msc.fema.gov/portal/advanceSearch. | Apr. 17, 2019 | 080059
Jefferson | City of Westminster (18-08-0957P). | The Honorable Herb Atchison, Mayor, City of Westminster, 4800 West 92nd Avenue, Westminster, CO 80031. | City Hall, 4800 West 92nd Avenue, Westminster, CO 80031. | https://msc.fema.gov/portal/advanceSearch. | May 10, 2019 | 080008
Jefferson | Unincorporated areas Jefferson County (18-08-0875P). | The Honorable Casey Tighe, Chairman, Jefferson County Board of Commissioners, 100 Jefferson County Parkway, Suite 5550, Golden, CO 80419. | Jefferson County Department of Planning and Zoning, 100 Jefferson County Parkway, Suite 3550, Golden, CO 80419. | https://msc.fema.gov/portal/advanceSearch. | Apr. 26, 2019 | 080087
Florida:
Charlotte | Unincorporated areas Charlotte County (18-04-6671P). | The Honorable Ken Doherty, Chairman, Charlotte County Board of Commissioners, 18500 Murdock Circle, Suite 536, Port Charlotte, FL 33948. | Charlotte County Department of Community Development, 18500 Murdock Circle, Port Charlotte, FL 33948. | https://msc.fema.gov/portal/advanceSearch. | Apr. 22, 2019 | 120061
Lee | Unincorporated areas Lee County (18-04-7249P). | Mr. Roger Desjarlais, Manager, Lee County, 2120 Main Street, Fort Myers, FL 33901. | Lee County Building Department, 1500 Monroe Street, Fort Myers, FL 33901. | https://msc.fema.gov/portal/advanceSearch. | Apr. 25, 2019 | 125124
Monroe | Village of Islamorada (18-04-7178P). | The Honorable Chris Sante, Mayor, Village of Islamorada, 86800 Overseas Highway, Islamorada, FL 33036. | Building Department, 86800 Overseas Highway, Islamorada, FL 33036. | https://msc.fema.gov/portal/advanceSearch. | Apr 19, 2019 | 120424
Sarasota | Unincorporated areas Sarasota County (18-04-4837P). | The Honorable Nancy Detert, Chair, Sarasota County Board of Commissioners, 1660 Ringling Boulevard, Sarasota, FL 34236. | Sarasota County Planning and Development Services Department, 1001 Sarasota Center Boulevard, Sarasota, FL 34240. | https://msc.fema.gov/portal/advanceSearch. | May 3, 2019 | 125144
Louisiana: Ascension | Unincorporated areas Ascension Parish (18-06-3150P). | The Honorable Kenny Matassa, Ascension Parish President, 615 East Worthey Road, Gonzales, LA 70737. | Ascension Parish Public Works Department, 615 East Worthey Road, Gonzales, LA 70737. | https://msc.fema.gov/portal/advanceSearch. | May 10, 2019 | 220013
Mississippi:
DeSoto | City of Hernando (18-04-4824P). | The Honorable N.C. Tom Ferguson, Mayor, City of Hernando, 475 West Commerce Street, Hernando, MS 38632. | Planning Department, 475 West Commerce Street, Hernando, MS 38632. | https://msc.fema.gov/portal/advanceSearch. | Apr. 26, 2019 | 280292
DeSoto | Unincorporated areas DeSoto County (18-04-4824P). | The Honorable Michael Lee, Chairman, DeSoto County Board of Supervisors, 365 Losher Street, Suite 300, Hernando, MS 38632. | DeSoto County Planning Commission, 365 Losher Street, Hernando, MS 38632. | https://msc.fema.gov/portal/advanceSearch. | Apr. 26, 2019 | 280050
Pennsylvania:
Allegheny | Township of South Fayette (19-03-0150P). | Mr. Miles Truitt, Interim Manager, Township of South Fayette, 515 Millers Run Road, Morgan, PA 15064. | Planning, Engineering and Building Department, 515 Millers Run Road, Morgan, PA 15064. | https://msc.fema.gov/portal/advanceSearch. | Apr. 12, 2019 | 421106
Allegheny | Township of Upper St. Clair (19-03-0150P). | The Honorable Mark D. Christie, President, Township of Upper St. Clair Board of Commissioners, 1820 McLaughlin Run Road, Upper St. Clair, PA 15241. | Department of Planning and Community Development, 1820 McLaughlin Run Road, Upper St. Clair, PA 15241. | https://msc.fema.gov/portal/advanceSearch. | Apr. 12, 2019 | 421119
South Carolina: Charleston | City of Charleston (18-04-7585P). | The Honorable John J. Tecklenburg, Mayor, City of Charleston, 80 Broad Street, Charleston, SC 29401. | Public Services Department, 2 George Street, Suite 2100, Charleston, SC 29401. | https://msc.fema.gov/portal/advanceSearch. | May 13, 2019 | 455412
Texas:
Bexar | Unincorporated areas Bexar County (18-06-3287P). | The Honorable Nelson W. Wolff, Bexar County Judge, 101 West Nueva Street, 10th Floor, San Antonio, TX 78205. | Bexar County Public Works Department, 233 North Pecos-La Trinidad Street, Suite 420, San Antonio, TX 78207. | https://msc.fema.gov/portal/advanceSearch. | Apr. 22, 2019 | 480035
Denton | City of Aubrey (18-06-2849P). | The Honorable Janet Meyers, Mayor, City of Aubrey, 107 South Main Street, Aubrey, TX 76227. | City Hall, 107 South Main Street, Aubrey, TX 76227. | https://msc.fema.gov/portal/advanceSearch. | Apr. 29, 2019 | 480776
Harris | Unincorporated areas of Harris County (18-06-2511P). | The Honorable Edward Emmett, Harris County Judge, 1001 Preston Street, Suite 911, Houston, TX 77002. | Harris County Permit Department, 10555 Northwest Freeway, Suite 120, Houston, TX 77092. | https://msc.fema.gov/portal/advanceSearch. | May 13, 2019 | 480287
Rockwall | City of Rockwall (18-06-1450P). | The Honorable Jim Pruitt, Mayor, City of Rockwall, 385 South Goliad Street, Rockwall, TX 75087. | City Hall, 385 South Goliad Street, Rockwall, TX 75087. | https://msc.fema.gov/portal/advanceSearch. | Apr. 15, 2019 | 480547
Tarrant | City of Arlington (18-06-0363P). | The Honorable Jeff Williams, Mayor, City of Arlington, P.O. Box 90231, Arlington, TX 76004. | City Hall, 101 West Abram Street, Arlington, TX 76010. | https://msc.fema.gov/portal/advanceSearch. | Apr. 19, 2019 | 485454
Tarrant | City of North Richland Hills (18-06-2611P). | The Honorable Oscar Trevino, Jr., Mayor, City of North Richland Hills, 4301 City Point Drive, North Richland Hills, TX 76180. | Public Works Administration and Engineering Department, 4301 City Point Drive, North Richland Hills, TX 76180. | https://msc.fema.gov/portal/advanceSearch. | Apr. 15, 2019 | 480607
Travis | City of Austin (18-06-3308P). | Mr. Spencer Cronk, Manager, City of Austin, P.O. Box 1088, Austin, TX 78767. | Watershed Protection Department, 505 Barton Springs Road, Austin, TX 78704. | https://msc.fema.gov/portal/advanceSearch. | Apr. 29, 2019 | 480624
Travis | City of Pflugerville (18-06-2107P). | The Honorable Victor Gonzales, Mayor, City of Pflugerville, P.O. Box 589. Pflugerville, TX 78691. | Development Services Department, 201-B East Pecan Street, P.O. Box 589, Pflugerville, TX 78691. | https://msc.fema.gov/portal/advanceSearch. | May 6, 2019 | 481028
Travis | Unincorporated areas Travis County (18-06-2107P). | The Honorable Sarah Eckhardt, Travis County Judge, 700 Lavaca Street, Suite 2300, Austin, TX 78701. | Travis County TNR, 700 Lavaca Street, 5th Floor, Austin, TX 78701. | https://msc.fema.gov/portal/advanceSearch. | May 6, 2019 | 481026
Wilson | Unincorporated areas Wilson County (18-06-3960P). | The Honorable Richard L. Jackson, Wilson County Judge, 1420 3rd Street, Suite 101, Floresville, TX 78114. | Wilson County Courthouse Annex II, 800 10th Street, Building B, Floresville, TX 78114. | https://msc.fema.gov/portal/advanceSearch. | May 2, 2019 | 480230
Utah:
Iron | City of Cedar City (18-08-0328P). | The Honorable Maile Wilson, Mayor, City of Cedar City, 10 North Main Street, Cedar City, UT 84720. | City Hall, 10 North Main Street, Cedar City, UT 84720. | https://msc.fema.gov/portal/advanceSearch. | May 20, 2019 | 490074
Iron | Unincorporated areas Iron County (18-08-0328P). | The Honorable Michael Bleak, Chairman, Iron County Board of Commissioners, 68 South 100 East, Parowan, UT 84761. | Iron County Engineering and Surveying Department, 68 South 100 East, Parowan, UT 84761. | https://msc.fema.gov/portal/advanceSearch. | May 20, 2019 | 490073
Virginia: Prince William | City of Manassas (18-03-1933P). | Mr. William Patrick Pate, Manager, City of Manassas, 9027 Center Street, Manassas, VA 20110. | Engineering Department, 8500 Public Works Drive, Manassas, VA 20110. | https://msc.fema.gov/portal/advanceSearch. | Apr. 25, 2019 | 510122
Washington, DC: District of Columbia | District of Columbia (18-03-1305P). | The Honorable Muriel Bowser, Mayor, District of Columbia, 1350 Pennsylvania Avenue Northwest, Washington, DC 20004. | Department of Energy and Environment, 1200 1st Street Northeast, 5th Floor, Washington, DC 20002. | https://msc.fema.gov/portal/advanceSearch. | Apr. 29, 2019 | 110001

[FR Doc. 2019-03374 Filed 2-26-19; 8:45 am]

BILLING CODE 9110-12-P